DEPARTMENT OF THE TREASURY

Open Meeting of the President's Advisory Council on Financial Capability

AGENCY: Department of the Treasury.

ACTION: Notice of meeting.

SUMMARY: The President's Advisory Council on Financial Capability (“Council”) will convene for an open meeting on July 16, 2012, at the Department of Treasury, 1500 Pennsylvania Avenue NW., Washington DC, beginning at 10 a.m. Eastern Time. The meeting will be open to the public. The Council will: (1) Receive reports from the Council's subcommittees (Underserved and Community Empowerment, Research and Evaluation, Partnerships, and Youth) on their progress; and (2) hear from a panel of experts about research in financial capability.

DATES: The meeting will be held on July 16, 2012, at 10 a.m. Eastern Time.

SUBMISSION OF WRITTEN STATEMENTS: The public is invited to submit written statements to the Council. Written statements should be sent by any one of the following methods:

Electronic Statements

Email: pacfc@treasury.gov. or

Paper Statements

Send paper statements to the Department of the Treasury, Office of Financial Education, Financial Access, and Consumer Protection, Main Treasury Building, 1500 Pennsylvania Avenue NW., Washington, DC 20220.

In general, the Department will make all statements available in their original format, including any business or personal information provided such as names, addresses, email addresses, or telephone numbers, for public inspection and photocopying in the Department's library, Room 1428, Main Department Building, 1500 Pennsylvania Avenue NW., Washington DC, 20220, on official business days between the hours of 10 a.m. and 5 p.m. You can make an appointment to inspect statements by calling (202) 622-0990. All statements received, including attachments and other supporting materials, are part of the public record and subject to public disclosure. You should only submit information that you wish to make publicly available.

FOR FURTHER INFORMATION CONTACT: Louisa Quittman, Director, Office of Financial Education, Department of the Treasury, 1500 Pennsylvania Avenue NW., Washington, DC 20220, at (202) 622-5770 or pacfc@treasury.gov.

SUPPLEMENTARY INFORMATION: On January 29, 2010, the President signed Executive Order 13530, creating the Council to assist the American people in understanding financial matters and making informed financial decisions, thereby contributing to financial stability. The Council is composed of two ex-officio Federal officials and 15 non-governmental members appointed by the President with relevant backgrounds, such as financial services, consumer protection, financial access, and education. The role of the Council is to advise the President and the Secretary of the Treasury on means to promote and enhance individuals' and families' financial capability. The Council held its first meeting on November 30, 2010. At that meeting, the Chair recommended the establishment of five subcommittees to focus on the following strategic areas: National Strategy, Financial Access, Research and Evaluation, Partnerships, and Youth. The Council met again on April 21, 2011; July 12, 2011; November 8, 2011; January 19, 2012, and April 9, 2012. At the January 19, 2012, meeting, the Council presented an Interim Report to the President, which can be found at: http://www.treasury.gov/resource-center/financial-education/Documents/PACFC%20Interim%20Report%2001-18-12%20Final.pdf.

In accordance with section 10(a) of the Federal Advisory Committee Act, 5 U.S.C. App. 2 and the regulations thereunder, Louisa Quittman, Designated Federal Officer of the Council, has ordered publication of this notice that the Council will convene its seventh meeting on July 16, 2012, at the Department of Treasury, 1500 Pennsylvania Avenue NW., Washington DC, beginning at 10:00 a.m. Eastern Time. The meeting will be open to the public. Members of the public who plan to attend the meeting must RSVP with their name, organization represented (if any), phone number, and email address. To register, please go to www.treasury.gov, click on Resource Center, then Office of Financial Education and Financial Access, and then on the President's Advisory Council on Financial Capability by 5 p.m. Eastern Time on July 10, 2012. For entry into the building on the date of the meeting, attendees must present a government-issued ID, such as a driver's license or passport, which includes a photo. The purpose of the meeting is to receive an update from the Council's subcommittees on their progress. The Council will also hear from experts on financial capability research.

Melissa Koide,
Deputy Assistant Secretary of Financial Education, Financial Access, and Consumer Protection, U.S. Department of the Treasury.

[FR Doc. 2012-15312 Filed 6-21-12; 8:45 am]

BILLING CODE 4810-25-P